DEPARTMENT OF HEALTH AND HUMAN SERVICES

Health Resources and Services Administration

Non-Competitive One-Year Extension With Funds for Black Lung/Coal Miner Clinics Program (H37) Current Grantee

AGENCY: Health Resources and Services Administration, HHS.

ACTION: Correction.

SUMMARY: The Health Resources and Services Administration published a notice in the Federal Register FR 2013-08482 (April 12, 2013), announcing the issuing of a non-competitive one-year extension with funds for the Black Lung/Coal Miner Clinics Program awards to the current grantees (included in attached chart), in amounts between $299,000 and $1.5 million over the one-year extension project period.

Correction

In the Federal Register, FR 2013-08482 (April 12, 2013), please make the following correction:

In the SUPPLEMENTARY INFORMATION, Amount of the Award(s) section correct to read:

Amount of the Award(s): Each of the current grantees will receive support at the same annual rate that was authorized in FY 2012: between $299,000 and $1.5 million. These amounts are subject to change and are based on the availability of funds.

Dated: April 30, 2013.
Mary K. Wakefield,
Administrator.

[FR Doc. 2013-10793 Filed 5-6-13; 8:45 am]

BILLING CODE 4165-15-P